NUCLEAR REGULATORY COMMISSION

[ Docket No. 52-009-ESP; ASLBP No. 04-823-03-ESP]

Atomic Safety and Licensing Board; Before Administrative Judges: Lawrence G. McDade, Chairman, Nicholas G. Trikouros, Dr. Richard E. Wardwell; In the Matter of System Energy Resources, Inc.; Early Site Permit for Grand Gulf Site; Notice of Hearing

October 6, 2006.

This Atomic Safety and Licensing Board hereby gives notice that it will convene an evidentiary session to receive testimony and exhibits in the “mandatory hearing” portion of this proceeding regarding the October 16, 2003, application of System Energy Resources, Inc. (SERI) for a 10 CFR part 52 early site permit (ESP), seeking approval of the site of the existing Grand Gulf Nuclear Station (GGNS) near Port Gibson in Claiborne County, Mississippi, for the possible future construction of a new nuclear power generation facility.¹ This mandatory hearing will concern safety and environmental matters relating to the proposed issuance of the requested ESP, as more fully described below.

¹ See 69 FR 2636 (Jan. 16, 2004).

A. Matters To Be Considered

As set forth by the Commission in the January 2004 “Notice of Hearing and Opportunity To Petition for Leave To Intervene Early Site Permit for the Grand Gulf ESP Site” (69 FR at 2636) and the applicable regulations in 10 CFR 52.21, the matters at issue in this proceeding are whether the application and the record of this proceeding contain sufficient information, and the NRC Staff's review of the application has been adequate to support a finding that: (a) The issuance of this ESP will not be inimical to the common defense and security or to the health and safety of the public (Safety Issue 1); (b) taking into consideration the site criteria contained in 10 CFR part 100, a reactor or reactors having characteristics that fall within the parameters for the site, can be constructed and operated without undue risk to the public health and safety (Safety Issue 2); and (c) in accordance with the requirements of 10 CFR part 51, Subpart A, the ESP should be issued as proposed. Additionally, in accord with the Commission's January 2004 notice, also at issue in this proceeding are: (d) Whether the requirements of Sections 102(2)(A), (C), and (E) of the National Environmental Policy Act of 1969 and 10 CFR part 51, Subpart A, have been complied with in this proceeding; (e) whether the final balance among conflicting factors contained in the record of this proceeding indicate that granting the ESP is the appropriate action to be taken; and (f) whether, after considering reasonable alternatives, the ESP should be issued, denied, or appropriately conditioned to protect environmental values.

B. Date, Time, and Location of Mandatory Hearing

The Board will conduct this mandatory hearing at the specified location and time:

1. Date: Tuesday, November 14, 2006.

Time: Beginning at 9 a.m. EST.

Location: ASLBP Hearing Room, Two White Flint North, Third Floor, 11545 Rockville Pike, Rockville, Maryland 20852-2738.

The hearing on these issues will continue day-to-day thereafter until concluded.

Any members of the public who plan to attend the mandatory hearing are advised that security measures will be employed at the entrance to the hearing facility, including searches of hand-carried items such as briefcases or backpacks. The public is further advised that, in accordance with 10 CFR 2.390, portions of the hearing sessions may be closed to the public because the matters at issue may involve the discussion of protected information.

C. Availability of Documentary Information Regarding the Proceeding

Documents relating to this proceeding are available for public inspection at the Commission's Public Document Room (PDR), located at One White Flint North, 11555 Rockville Pike (first floor), Rockville, Maryland, or electronically from the publicly available records component of NRC's document system (ADAMS). ADAMS is accessible from the NRC Web site at http://www.nrc.gov/reading-rm/adams.html (the Public Electronic Reading Room). Persons who do not have access to ADAMS or who encounter problems in accessing the documents located in ADAMS should contact the NRC PDR reference staff by telephone at (800) 397-4209 or (301) 415-4737, or by e-mail to pdr@nrc.gov.

D. Scheduling Information Updates

Any updated/revised scheduling information regarding the evidentiary hearing can be found on the NRC Web site at http://www.nrc.gov/public-involve/public-meetings/index.cfm or by calling (800) 368-5642, extension 5036, or (301) 415-5036.

² Copies of this Notice were sent this date by Internet e-mail transmission to: (1) Counsel for the NRC Staff and (2) Counsel for SERI.

It is so ordered.

Dated: October 6, 2006 at Rockville, Maryland.
For the Atomic Safety and Licensing Board.²
Lawrence G. McDade,
Chairman, Administrative Judge.

[FR Doc. E6-16997 Filed 10-12-06; 8:45 am]

BILLING CODE 7590-01-P